DEPARTMENT OF HOMELAND SECURITY

Coast Guard

33 CFR Part 117

[Docket No. USCG-2016-0747]

Drawbridge Operation Regulation; Umpqua River, Reedsport, OR

AGENCY: Coast Guard, DHS.

ACTION: Notice of deviation from drawbridge regulations.

SUMMARY: The Coast Guard has issued a temporary deviation from the operating schedule that governs the US 101 Bridge across the Umpqua River, mile 11.1, at Reedsport, OR. The deviation is necessary to accommodate updating the electric control panels on the bridge. This deviation allows the US 101 Bridge to remain in the closed-to-navigation position during upgrades.

DATES: This deviation is effective from 7 a.m. on August 16, 2016 until 5 p.m. on August 18, 2016.

ADDRESSES: The docket for this deviation, [USCG-2016-0747] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Oregon Department of Transportation requested that the US 101 Bridge, near Reedsport, Oregon, remain in the closed-to-navigation position to update the electric control panels. The US 101 Bridge crosses the Umpqua River at mile 11.1 and provides 36 feet of vertical clearance above mean high water when in the closed-to-navigation position. This deviation allows the US 101 Bridge to remain in the closed-to-navigation position and need not open for maritime traffic from 7 a.m. on August 16, 2016 until 5 p.m. August 18, 2016. The normal operating schedule of this bridge is detailed at 33 CFR 117.893(a).

Waterway usage on this part of the Umpqua River includes vessels ranging from occasional commercial tug and barge to small pleasure craft. ODOT has coordinated with local mariners in this regard, and no objections have been received. No immediate alternate route is available for vessels to pass. The Coast Guard will also inform the users of the waterways through our Local and Broadcast Notices to Mariners of the change in operating schedule for the bridge so that vessels can arrange their transits to minimize any impact caused by the temporary deviation. Vessels which do not require an opening of the bridge may continue to transit beneath the bridge during this repair period.

In accordance with 33 CFR 117.35(e), the drawbridge must return to its regular operating schedule immediately at the end of the designated time period. This deviation from the operating regulations is authorized under 33 CFR 117.35.

Dated: July 29, 2016.
Steven M. Fischer,
Bridge Administrator, Thirteenth Coast Guard District.

[FR Doc. 2016-18709 Filed 8-5-16; 8:45 am]

BILLING CODE 9110-04-P